PRESIDIO TRUST

Notice of Public Meeting

AGENCY: The Presidio Trust.

ACTION: Notice of public meeting.

SUMMARY: In accordance with § 103(c)(6) of the Presidio Trust Act, 16 U.S.C. § 460bb note, Title I of Public Law 104-333, 110 Stat. 4097, and in accordance with the Presidio Trust's bylaws, notice is hereby given that a public meeting of the Presidio Trust Board of Directors will be held commencing 6:30 p.m. on Wednesday, October 29, 2003, at the Officers' Club, 50 Moraga Avenue, Presidio of San Francisco, California. The Presidio Trust was created by Congress in 1996 to manage approximately eighty percent of the former U.S. Army base known as the Presidio, in San Francisco, California.

The purposes of this meeting are to: (1) Introduce the new members of the Board of the Trust; (2) provide the Executive Director's general status report; (3) hear from the three short-listed teams responding to a Request for Proposals for the rehabilitation and reuse of the Public Health Service Hospital (PHSH) complex; (4) receive oral scoping comments under the National Environmental Policy Act on the Trust's proposed environmental review for the PHSH project; and (5) receive public comment in accordance with the Trust's Public Outreach Policy.

Time: The meeting will be held commencing at 6:30 p.m. on Wednesday, October 29, 2003.

ADDRESSES: The meeting will be held at the Officers' Club, 50 Moraga Avenue, Presidio of San Francisco.

FOR FURTHER INFORMATION CONTACT: Karen Cook, General Counsel, the Presidio Trust, 34 Graham Street, P.O. Box 29052, San Francisco, California 94129-0052, Telephone: (415) 561-5300.

Dated: October 3, 2003.
Karen A. Cook,
General Counsel.

[FR Doc. 03-25585 Filed 10-8-03; 8:45 am]

BILLING CODE 4310-4R-P